DEPARTMENT OF EDUCATION

National Committee on Foreign Medical Education and Accreditation; Meeting

AGENCY: National Committee on Foreign Medical Education and Accreditation, Department of Education.

What Is the Purpose of This Notice?

The purpose of this notice is to announce the upcoming meeting of the National Committee on Foreign Medical Education and Accreditation (the Committee). Parts of this meeting will be open to the public, and the public is invited to attend those portions.

When and Where Will the Meeting Take Place?

We will hold the public meeting on March 6, 2008 from 1 p.m. until approximately 5 p.m. in the Potomac One and Two Room at The Melrose Hotel, 2430 Pennsylvania Avenue, NW., Washington, DC 20037-6936. You may call the hotel at 202-955-6400 to inquire about room accommodations.

What Assistance Will Be Provided to Individuals With Disabilities?

The meeting site is accessible to individuals with disabilities. If you will need an auxiliary aid or service to participate in the meeting, e.g., interpreting service, assistive listening device, or materials in an alternate format, notify the contact person listed in this notice at least two weeks before the scheduled meeting date. Although we will attempt to meet a request received after that date, we may not be able to make available the requested auxiliary aid or service because of insufficient time to arrange it.

Who Is the Contact Person for the Meeting?

Please contact Ms. Melissa Lewis, the Executive Director for the National Committee on Foreign Medical Education and Accreditation, if you have questions about the meeting. You may contact her at the U.S. Department of Education, room 7127, MS 7563, 1990 K St., NW., Washington, DC 20006, telephone: (202) 219-7009, fax: (202) 219-7008, e-mail: Melissa.Lewis@ed.gov.

Individuals who use a telecommunications device for the deaf (TDD) may call the Federal Information Relay Service at 1-800-877-8339.

What Are the Functions of the Committee?

The Committee was established by the Secretary of Education under Section 102 of the Higher Education Act of 1965, as amended.

The Committee's responsibilities are to:

• Evaluate the standards of accreditation applied to applicant foreign medical schools; and

• Determine the comparability of those standards to standards for accreditation applied to United States medical schools.

What Items Will Be on the Agenda for Discussion at the Meeting?

The Committee will review the standards of accreditation applied to medical schools by several foreign countries to determine whether those standards are comparable to the standards of accreditation applied to medical schools in the United States. Discussions of the standards of accreditation will be held in sessions open to the public. Discussions that focus on specific determinations of comparability are closed to the public in order that each country may be properly notified of the decision.

The countries tentatively scheduled to be discussed at the meeting include: The Caribbean Accreditation Authority for Education in Medicine and Other Health Professions, Cayman Islands, Costa Rica, Czech Republic, Ireland, St. Maarten, and the United Kingdom. Beginning February 22, you may call the contact person listed above to obtain the final listing of the countries whose standards will be discussed during this meeting. The listing of countries will also be posted on the Department of Education's Web site at the following address: http://www.ed.gov/about/bdscomm/list/ncfmea.html.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Authority: 5 U.S.C. Appendix 2.

Dated: February 14, 2008.
Diane Auer Jones,
Assistant Secretary, Office of Postsecondary Education.

[FR Doc. E8-3469 Filed 2-22-08; 8:45 am]

BILLING CODE 4000-01-P